DEPARTMENT OF DEFENSE

Office of the Secretary

[Transmittal No. 20-23]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 20-23 with attached Policy Justification.

Dated: April 21, 2020.
Aaron T. Siegel,
Alternate OSD Federal Register Liaison Officer, Department of Defense.

Transmittal No. 20-23

Notice of Proposed Issuance of Letter of Offer Pursuant to Section 36(b)(1) of the Arms Export Control Act, as amended

(i) Prospective Purchaser: Republic of Korea

(ii)Total Estimated Value:

Major Defense Equipment* | $ 0 million
Other | $675 million
Total | $675 million

(iii) Description and Quantity or Quantities of Articles or Services under Consideration for Purchase:

Major Defense Equipment (MDE):

None

Non-MDE:

Follow-on support and services for Republic of Korea's F-35 aircraft, engines, and weapons; publications and technical documentation; support equipment; spare and repair parts; repair and return; test equipment; software delivery and support; pilot flight equipment; personnel training equipment; U.S. Government and contractor technical and logistics support services; and other related elements of program support.

(iv) Military Department: Air Force (KS-D-QGC)

(v) Prior Related Cases, if any: KS-D-SAC

(vi) Sales Commission, Fee, etc., Paid, Offered, or Agreed to be Paid: None

(vii) Sensitivity of Technology Contained in the Defense Article or Defense Services Proposed to be Sold: None

(viii) Date Report Delivered to Congress: April 10, 2020

* As defined in Section 47(6) of the Arms Export Control Act.

POLICY JUSTIFICATION

Korea—F-35 Follow-On Support

The Republic of Korea has requested follow-on support and services for its F-35 aircraft, engines, and weapons; publications and technical documentation; support equipment; spare and repair parts; repair and return; test equipment; software delivery and support; pilot flight equipment; personnel training equipment; U.S. Government and contractor technical and logistics support services; and other related elements of program support. The estimated total program cost is $675 million.

This proposed sale will support the foreign policy and national security objectives of the United States by meeting legitimate security and defense needs of one of its closest allies in the INDOPACOM Theater. The Republic of Korea is one of the major political and economic powers in East Asia and the Western Pacific and a key partner of the United States in ensuring peace and stability in the region.

The proposed sale will sustain the Republic of Korea's flight and maintenance activity. It will improve sustainability and continue support for the F-35 fleet. The Republic of Korea will have no difficulty absorbing this support and services into its armed forces.

The proposed sale of this support and services will not alter the basic military balance in the region.

The principal contractor will be the Lockheed Martin Corporation, Bethesda, MD and Pratt and Whitney, East Hartford, CT. There are no known offset agreements proposed in connection with this potential sale. Any offset agreement will be defined in negotiations between the Purchaser and the prime contractor.

Implementation of this proposed sale will require the assignment of 14-26 additional U.S. contractor representatives to the Republic of Korea.

There will be no adverse impact on U.S. defense readiness as a result of this proposed sale.

[FR Doc. 2020-08792 Filed 4-24-20; 8:45 am]

BILLING CODE 5001-06-P